RECOVERY ACCOUNTABILITY AND TRANSPARENCY BOARD

Notice of Submission of Proposed Information Collection to OMB Emergency Comment Request

ACTION: Notice of proposed information collection.

SUMMARY: The Recovery Accountability and Transparency Board (Board) has submitted to the Office of Management and Budget (OMB) for clearance the following proposal for collection of information under the emergency provisions of the Paperwork Reduction Act of 1995 (44 U.S.C. Chapter 35).

DATES: Comments are due July 16, 2010.

ADDRESSES: Send all comments to Sharon Mar, Desk Officer for the Recovery Accountability and Transparency Board, Office of Management and Budget, New Executive Office Building, Washington, DC 20503; fax 202-395-5167; or e-mail to smar@omb.eop.gov.

Title of Collection: Jobs Reporting under Section 1512 of the American Recovery and Reinvestment Act of 2009.

OMB Control No.: 0430—Pending.

Description: Section 1512 of the American Recovery and Reinvestment Act of 2009 (Pub. L. 111-5, 123 Stat. 115 (2009)) (Recovery Act) requires recipients of Recovery Act funds to report an estimate of the number of jobs created or retained by particular projects or activities. These reports are submitted to FederalReporting.gov, and information from these reports is later posted to the publicly available Web site Recovery.gov. Among other things, the purpose of the Recovery Act is “to preserve and create jobs and promote economic recovery.” An integral part of the nation's recovery is the creation of jobs. However, there has been very little oversight of the job numbers reported by recipients of Recovery funds. The U.S. Government Accountability Office (GAO) and the Inspectors General (IGs) have done limited testing on some recipients. The limited testing to date has found the following: (1) Some recipients were confused by the revised guidance issued by the Office of Management and Budget (OMB) on December 18, 2009 (M-10-08); (2) some recipients decided not to use the updated jobs reporting guidance; (3) one state recipient estimated the number of jobs that could potentially be created; and (4) one recipient was calculating jobs by dividing average salaries by the number of employees. Therefore, a statistically valid sample test would provide the insight needed to better understand these jobs numbers. The sample would be approximately 200 recipients and should provide enough data to determine whether the jobs numbers reported are reasonable. The information requested would be limited to the recipients' policies and procedures for compiling and reporting the jobs data; documentation for the jobs reported; and identifying any on-going challenges faced in complying with the job reporting requirements. The information requested in most circumstances will be less than 10 pages.

Affected Public: Recipients, as defined in section 1512(b)(1) of the Recovery Act, of Recovery Act funds.

Total Estimated Number or Respondents: 200.

Frequency of Responses: Once.

Total Estimated Annual Burden Hours: 400.

Ivan J. Flores,
Paralegal Specialist, Recovery Accountability and Transparency Board.

[FR Doc. 2010-16125 Filed 7-1-10; 8:45 am]

BILLING CODE 6820-GA-P